COMMISSION ON CIVIL RIGHTS

Notice of Public Meeting of the Washington Advisory Committee

AGENCY: Commission on Civil Rights.

ACTION: Announcement of virtual business meeting.

SUMMARY: Notice is hereby given, pursuant to the provisions of the rules and regulations of the U.S. Commission on Civil Rights (Commission) and the Federal Advisory Committee Act that the Washington Advisory Committee (Committee) to the U.S. Commission on Civil Rights will hold a virtual business meeting via ZoomGov on Wednesday, May 29, 2024, from 3:00 p.m.-4:00 p.m. Pacific Time, for the purpose of discussing post-report activities on their report on physical accessibility in Washington.

DATES: The meeting will take place on:

• Wednesday, May 29, 2024, from 3:00 p.m.-4:00 p.m. PT

Zoom Webinar Link to Join: https://www.zoomgov.com/meeting/register/vJItf-urqzIqH1F89pGppY-Oz6qcLPU8_To

FOR FURTHER INFORMATION CONTACT: Brooke Peery, DFO, at bpeery@usccr.gov or (202) 701-1376.

SUPPLEMENTARY INFORMATION: Committee meetings are available to the public through the videoconference link above. Any interested member of the public may listen to the meeting. An open comment period will be provided to allow members of the public to make a statement as time allows. Per the Federal Advisory Committee Act, public minutes of the meeting will include a list of persons who are present at the meeting. If joining via phone, callers can expect to incur regular charges for calls they initiate over wireless lines, according to their wireless plan. The Commission will not refund any incurred charges. Closed captions will be provided for individuals who are deaf or hard of hearing, or who have certain cognitive or learning impairments. To request additional accommodations, please email Angelica Trevino, Support Services Specialists, at atrevino@usccr.gov at least 10 business days prior to the meeting.

Records generated from this meeting may be inspected and reproduced at the Regional Programs Coordination Unit Office, as they become available, both before and after the meeting. Records of the meetings will be available via www.facadatabase.gov under the Commission on Civil Rights, Washington Advisory Committee link. Persons interested in the work of this Committee are directed to the Commission's website, http://www.usccr.gov, or may contact the Regional Programs Coordination Unit at atrevino@usccr.gov.

Agenda

I. Welcome & Roll Call

II. Approval of Minutes

III. Committee Discussion

IV. Public Comment

V. Adjournment

Dated: May 16, 2024.
David Mussatt,
Supervisory Chief, Regional Programs Unit.

[FR Doc. 2024-11120 Filed 5-20-24; 8:45 am]

BILLING CODE P